DEPARTMENT OF THE INTERIOR

Fish and Wildlife Service

[FWS-R2-ES-2008-N0177; 20124-1115-0000-F4]

Draft Candidate Conservation Agreement With Assurances and Application for an Enhancement of Survival Permit for the Lesser Prairie-Chicken and Sand Dune Lizard (Center of Excellence for Hazardous Materials Management)

AGENCY: Fish and Wildlife Service, Interior.

ACTION: Notice of availability of draft candidate conservation agreement with assurances and draft environmental assessment; receipt of application.

SUMMARY: The Center of Excellence for Hazardous Materials Management (CEHMM) (Applicant) has applied for an enhancement of survival permit under Section 10(a)(1)(A) of the Endangered Species Act (Act) of 1973, as amended. The permit application includes a draft Candidate Conservation Agreement with Assurances (CCAA) between the U.S. Fish and Wildlife Service (Service) and CEHMM for the lesser prairie-chicken (Tympanuchus pallidicinctus) (LPC) and the dunes sagebrush lizard (Sceloporus arenicolus), commonly known as the sand dune lizard (SDL) throughout their range in New Mexico. The Applicant proposes to implement conservation measures for the LPC and SDL by removing threats to the survival of these species and protecting their habitat. We invite public comment.

DATES: To ensure consideration, we must receive written comments on or before November 20, 2008.

ADDRESSES: Persons wishing to review the application may obtain a copy by writing to the Regional Director, U.S. Fish and Wildlife Service, P.O. Box 1306, Room 4102, Albuquerque, NM 87103. Persons wishing to review the draft CCAA or the draft environmental assessment may obtain a copy by written or telephone request to Nancy Riley, New Mexico Ecological Services Field Office, U.S. Fish and Wildlife Service, 2105 Osuna NE., Albuquerque, NM 87113 (505/761-4707). Documents will be available for public inspection by written request, or by appointment only during normal business hours (8 a.m. to 4:30 p.m.), at the above Albuquerque address.

FOR FURTHER INFORMATION CONTACT: Nancy Riley, New Mexico Ecological Services Field Office, U.S. Fish and Wildlife Service, 2105 Osuna NE., Albuquerque, NM 87113 (505/761-4707).

SUPPLEMENTARY INFORMATION: With the assistance of the Service, the Applicant proposes to implement conservation measures for the LPC and SDL by removing threats to the survival of these species and protecting their habitat. The proposed CCAA would be in effect for 20 years in southeastern New Mexico. This area constitutes the CCAA's Planning Area, with Covered Areas being private lands and state trust lands that provide suitable habitat or are being improved or restored to provide suitable habitat for the LPC and/or SDL. This CCAA is part of a larger conservation effort for the LPC and SDL within New Mexico in the form of a Candidate Conservation Agreement (CCA) among the Service, the Bureau of Land Management, and CEHMM that would address conservation measures on Federal lands. The CCA contains more information regarding both species, including the life history, historic ranges, threats to the species, and conservation measures to reduce and/or eliminate those threats. There are no assurances associated with the CCA.

Under the CCAA, LPC and SDL conservation will be enhanced by providing assurances such that, should the Participating Landowner or Other Cooperator have or attract LPCs or SDLs to their property, the Participating Landowner or Other Cooperator will not incur additional land use restrictions in the event either species is listed. Without regulatory assurances, landowners may be unwilling to initiate conservation measures for these species.

Background

The historic range of the LPC encompassed habitats with sandy soils supporting shinnery oak-bluestem and sand sage-bluestem communities in the high plains of southeastern Colorado, southwestern Kansas, western Oklahoma, west Texas, the Texas panhandle, and eastern New Mexico. The Service was petitioned to list the LPC as threatened in 1995. The Service ruled that listing of the LPC was warranted, but precluded because of other higher priority species. The LPC was designated as a candidate for listing in 1997.

The SDL is native to a small area of southeastern New Mexico and west Texas. The species only occurs in sand dune complexes associated with shinnery oak. Oil and gas development near dunal complexes along with shinnery oak removal for the enhancement of forage production for grazing has increased fragmentation of SDL habitat and gaps in the species' range. In 2001, the Service determined that listing of the SDL was warranted, but precluded because of other higher priority species, and the species was designated a candidate for listing under the Act.

This CCAA was initiated in order to facilitate conservation and restoration of the LPC and SDL on private lands and state trust lands. Conservation benefits for both species are expected in the form of habitat enhancement and restoration. The Applicant also proposes to encourage creative partnerships among public, private, and government entities to conserve the LPC and SDL and their habitats. In addition to habitat enhancement and restoration activities, release of captive-reared or trans-located LPCs will be conducted in order to establish viable populations within the Planning Area. The Applicant has committed to guiding the implementation of these conservation measures and requests issuance of the permit in order to address the take prohibitions of Section 9 of the Act should the species become listed in the future.

The draft CCAA and permit application are not eligible for categorical exclusion under the National Environmental Policy Act (NEPA) of 1969. A draft Environmental Assessment has been prepared to further analyze the direct, indirect, and cumulative impacts of the CCAA on the quality of the human environment or other natural resources.

We provide this notice under section 10(c) of the Act (16 U.S.C. 1531 et seq.) and its implementing regulations (50 CFR 17.22), and the National Environmental Policy Act (42 U.S.C. 4371 et seq.) and its implementing regulations (40 CFR part 1506.6).

Public Availability of Comments

All comments we receive become part of the public record. Requests for copies of comments will be handled in accordance with the Freedom of Information Act, NEPA, and Service and Department of the Interior policies and procedures. Before including your address, phone number, e-mail address, or other personal identifying information in your comment, you should be aware that your entire comment—including your personal identifying information—may be made publicly available at any time. While you can ask us to withhold your personal identifying information from public review, we cannot guarantee we will be able to do so.

Brian Millsap,
Acting Regional Director, Region 2, Albuquerque, New Mexico.

[FR Doc. E8-24678 Filed 10-20-08; 8:45 am]

BILLING CODE 4310-55-P